ENVIRONMENTAL PROTECTION AGENCY

40 CFR Part 62

[ME-062-7011a; A-1-FRL-7491-7]

Approval and Promulgation of Air Quality Implementation Plans; Maine; Total Reduced Sulfur From Kraft Paper Mills

AGENCY: Environmental Protection Agency (EPA).

ACTION: Direct final rule.

SUMMARY: EPA is approving a revision to Maine's plan for controlling air pollution according to section 111(d) of the Clean Air Act (i.e., a “111(d) plan”). The revision changes state regulations controlling the emission of total reduced sulfur (TRS) from existing kraft paper mills. This action is being taken in accordance with section 111(d) of the Clean Air Act (CAA).

DATES: This direct final rule is effective on June 30, 2003 without further notice, unless EPA receives adverse comment by June 2, 2003. If adverse comment is received, EPA will publish a timely withdrawal of the direct final rule in the Federal Register and inform the public that the rule will not take effect.

ADDRESSES: Comments may be mailed to Steve Rapp, Unit Manager, Air Permits, Toxics, and Indoor Programs Unit, Office of Ecosystem Protection (mail code CAP), U.S. Environmental Protection Agency, EPA-New England, One Congress Street, Suite 1100, Boston, MA 02114-2023. Copies of the documents relevant to this action are available for public inspection during normal business hours, by appointment at the Office Ecosystem Protection, U.S. Environmental Protection Agency, EPA-New England, One Congress Street, 11th floor, Boston, MA 02114, the Bureau of Air Quality Control, Department of Environmental Protection, First Floor of the Tyson Building, Augusta Mental Health Institute Complex, Augusta, ME 04333-0017.

FOR FURTHER INFORMATION CONTACT: Ian D. Cohen, (617) 918-1655.

SUPPLEMENTARY INFORMATION: On March 29, 2000, the State of Maine submitted a formal revision to its 111(d) plan to control emissions of total reduced sulfur (TRS) from existing kraft paper mills. The revision consists of changes to Maine's regulations at Chapter 124, entitled “Total Reduced Sulfur Control from Kraft Pulp Mills” (Chapter 124). New mills are not covered under Chapter 124 because they are subject to New Source Performance Standards (NSPS) in 40 CFR part 60, subpart BB. Please note that if EPA receives adverse comment on an amendment, paragraph, or section of this rule and if that provision may be severed from the remainder of the rule, EPA may adopt as final those provisions of the rule that are not the subject of an adverse comment.

I. Summary of 111(d) Plan Revision

What are Total Reduced Sulfur (TRS) Compounds?

The term “total reduced sulfur” (TRS) refers to a mixture of four compounds: hydrogen sulfide, methyl mercaptan, dimethyl sulfide, and dimethyl disulfide. These compounds usually represent the total reduced sulfur released by a pulp and paper mill which uses the kraft process. TRS compounds are released when wood chips are dissolved during the papermaking process at certain mills. They have not been proven to cause serious human health problems in the concentrations normally found around paper mills, but they can cause some discomfort. TRS compounds have a strong, unpleasant odor.

Which Paper Mills are Affected by This Rule?

These changes to Chapter 124 will only affect existing paper mills that use the kraft process. The kraft process involves using sulfur compounds to dissolve wood chips, allowing the fiber to be made into paper. TRS compounds are formed during this process and, if not controlled, can be released into the atmosphere. Maine's 111(d) plan for TRS emissions applies to six kraft pulp mills in Maine.

This rule does not apply to new paper mills.

How Will New Mills be Regulated?

New mills will be covered by federal New Source Performance Standards (40 CFR part 60, subpart BB).

What is the History of Chapter 124?

Maine DEP originally submitted Chapter 124 to EPA on February 15, 1990. On September 19, 1990, EPA approved this rule under section 111(d) of the CAA (55 FR 38545). Section 111(d) allows us to approve state plans to regulate emissions from existing sources of pollutants not otherwise covered in the CAA.

On April 27, 1994, Maine DEP submitted a request to revise Chapter 124. EPA approved the state's revisions on October 4, 1994 (59 FR 50506). The changes to Chapter 124 extended the compliance date for brownstock washer systems from January 1, 1994 to September 30, 1998. Brownstock washer systems rinse the pulp after sulfur bearing chemicals are added. If emissions from these systems are not controlled, they can release TRS into the atmosphere. Maine changed the compliance date to give mills more time to comply with the federal Maximum Available Control Technology (MACT) standard for hazardous air pollutants (HAPs) from the pulp and paper industry, which was in preparation at the time. This MACT standard became effective in 1998.

Why is Maine Asking to Change Chapter 124 Again?

EPA published the MACT standard for the pulp and paper industry on April 15, 1998 (63 FR 18617). Maine then revised Chapter 124 to apply certain control provisions of that MACT standard to TRS compounds. Some of Maine's new requirements are even more stringent than the MACT standard for HAPs. For example, the compliance date for existing brownstock washer systems is April 17, 2005, which is one year earlier than the compliance date in EPA's MACT standard. Maine's revised regulations also add requirements independent of the MACT standard for HAPs. For example, the regulations call for inventories of TRS sources which emit more than 0.5 lbs/hr, limit unintentional releases (venting) from Low Volume High Concentration (LVHC) and some High Volume Low Concentration (HVLC) sources, and require detailed reports that explain TRS ventings from LVHC sources which exceed 0.5% of quarterly operating time.

Chapter 124 allows ME DEP and EPA to consider alternative compliance methods for monitoring TRS emissions. It is EPA's understanding that the state will implement these regulations to require that both agencies approve any such alternative compliance methods.

What Actions Did the State Take to Satisfy the Federal Public Hearing Requirement?

Maine certified that a public hearing on the revisions to Chapter 124 was held in Augusta, ME on May 26, 1999 in accordance with the requirements of 40 CFR 60.23(d)

II. Final Action

EPA is approving the revised 111(d) plan controlling TRS emissions from existing kraft pulp mills as submitted by ME DEP on March 29, 2000. The revised plan, which consists of the revised regulation entitled “Chapter 124: Total Reduced Sulfur from Kraft Pulp Mills,” affects six existing kraft pulp mills in the State of Maine.

EPA is publishing this action without prior proposal because the Agency views this as a noncontroversial amendment and anticipates no adverse comments. However, in the proposed rules section of this Federal Register publication, EPA is publishing a separate document that will serve as the proposal to approve the 111(d) plan revision should relevant adverse comments be filed. This rule will be effective June 30, 2003 without further notice unless the Agency receives relevant adverse comments by June 2, 2003.

If the EPA receives such comments, then EPA will publish a notice withdrawing the final rule and informing the public that the rule will not take effect. All public comments received will then be addressed in a subsequent final rule based on the proposed rule. EPA will not institute a second comment period on the proposed rule. Only parties interested in commenting on the proposed rule should do so at this time. If no such comments are received, the public is advised that this rule will be effective on June 30, 2003 and no further action will be taken on the proposed rule.

III. Statutory and Executive Order Review

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the CAA. This rule also is not subject to Executive Order 13045 (62 FR 19885, April 23, 1997), because it is not economically significant.

In reviewing 111(d) plan revisions, EPA's role is to approve state choices, provided that they meet the criteria of the CAA. In this context, in the absence of a prior existing requirement for the State to use voluntary consensus standards (VCS), EPA has no authority to disapprove a revision for failure to use VCS. It would thus be inconsistent with applicable law for EPA, when it reviews a revision, to use VCS in place of a revision that otherwise satisfies the provisions of the CAA. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.)

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

List of Subjects in 40 CFR Part 62

Environmental protection, Air pollution control, Reporting and recordkeeping requirements, Sulfur oxides.

Dated: April 21, 2003.
Robert W. Varney,
Regional Administrator, EPA—New England.

Part 62 of chapter I, title 40 of the Code of Federal Regulations is amended as follows:

PART 62—[AMENDED]

1. The authority citation for part 62 continues to read as follows:

Authority: 42 U.S.C. 7411(d).

Subpart U—Maine

2. Section 62.4845 is amended by adding paragraph (b)(5) to read as follows:

§ 62.4845 Identification of plan.

* * * * *

(b) * * *

(5) A revision to the plan controlling TRS from existing kraft pulp mills to incorporate the pulp and paper maximum achievable control technology (MACT) requirements that impact TRS emission sources such as brownstock washer systems, low volume high concentration (LVHC) systems, steam strippers, and waste water treatment plants. Changes have also been made to clarify venting allowances and recordkeeping and reporting requirements.

* * * * *

[FR Doc. 03-10757 Filed 4-30-03; 8:45 am]

BILLING CODE 6560-50-P